DEPARTMENT OF THE INTERIOR

National Park Service

[NPS-WASO-NAGPRA-NPS0037475; PPWOCRADN0-PCU00RP14.R50000]

Notice of Inventory Completion: University of California, Riverside, Riverside, CA and the California Department of Parks and Recreation, Sacramento, CA

AGENCY: National Park Service, Interior.

ACTION: Notice.

SUMMARY: In accordance with the Native American Graves Protection and Repatriation Act (NAGPRA), the University of California, Riverside and the California Department of Parks and Recreation has completed an inventory of human remains and associated funerary objects and has determined that there is a cultural affiliation between the human remains and associated funerary objects and Indian Tribes or Native Hawaiian organizations in this notice. The human remains and associated funerary objects were removed from Kings County, CA.

DATES: Repatriation of the human remains and associated funerary objects in this notice may occur on or after March 29, 2024.

ADDRESSES: Megan Murphy, University of California, Riverside, 900 University Avenue, Riverside, CA 92517-5900, telephone (951) 827-6349, email megan.murphy@ucr.edu and Leslie Hartzell, NAGPRA Coordinator, California State Parks, 715 P Street, Suite 13, Sacramento, CA 95814, telephone (415) 831-2700, email 271eslie.hartzell@parks.ca.gov.

SUPPLEMENTARY INFORMATION: This notice is published as part of the National Park Service's administrative responsibilities under NAGPRA. The determinations in this notice are the sole responsibility of the University of California, Riverside and the California Department of Parks and Recreation. The National Park Service is not responsible for the determinations in this notice. Additional information on the determinations in this notice, including the results of consultation, can be found in the inventory or related records held by the University of California, Riverside and the California Department of Parks and Recreation.

Description

At some time before 1992, human remains representing, at minimum, one individual were removed from the Tulare Lake Witt Site locale in Kings County, CA, by a private individual. The human remains were donated to the California Department of Parks and Recreation by the private individual and subsequently submitted to the University of California, Riverside Radiocarbon Laboratory for Uranium-series method dating tests. The collection was subsequently held in the UCR Radiocarbon Laboratory under the direction of Dr. R. Ervin Taylor. When he retired in 2003, the lab was decommissioned and its records and remaining sample materials were subsequently stored by Dr. Taylor in an off-campus storage facility, which he did not report to the campus Repatriation Coordinator at the time. The residual sample materials were rediscovered by UCR NAGPRA Program Staff during a collections inventory in February of 2021. At the time no documentation indicating who the individual was or where they were removed from was found and it was not until September of 2022, that UCR NAGPRA Staff were able to find publications that described human remains removed from the site and data-sample sheets produced by the laboratory that were consistent with this individual. It was also discovered in 2023 that the larger skeletal elements from which the samples were removed were present at California State University, Bakersfield since at least 2017 when Dr. Robert Bettinger (UCR Alumnus) likely transferred them from the University of California, Davis without the knowledge of the Tribe or any NAGPRA Program to Dr. Robert Yohe III at CSUB. The human remains are approximately 44 mineralized bone fragments/elements representing at least one cranium and at least one femur. No known individuals were determined to be represented by the human remains. Uranium-series method dates suggest a date between 11,390 ± 70 and 15,800 ± 380 BP. The three associated funerary objects are one lot of lithic/stone objects, one lot of soil samples, and one lot of faunal remains.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: tribal traditional knowledge, archeological information, geographical information, historical information, kinship, oral tradition, and expert opinion.

Determinations

Pursuant to NAGPRA and its implementing regulations, and after consultation with the appropriate Indian Tribes and Native Hawaiian organizations, the University of California, Riverside and the California Department of Parks and Recreation has determined that:

• The human remains described in this notice represent the physical remains of one individual of Native American ancestry.

• The three objects described in this notice are reasonably believed to have been placed with or near individual human remains at the time of death or later as part of the death rite or ceremony.

• There is a relationship of shared group identity that can be reasonably traced between the human remains and associated funerary objects described in this notice and the Santa Rosa Indian Community of the Santa Rosa Rancheria, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after March 29, 2024. If competing requests for repatriation are received, the University of California, Riverside and the California Department of Parks and Recreation must determine the most appropriate requestor prior to repatriation. Requests for joint repatriation of the human remains and associated funerary objects are considered a single request and not competing requests. The University of California, Riverside and the California Department of Parks and Recreation are responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 20, 2024.
Melanie O'Brien,
Manager, National NAGPRA Program.

[FR Doc. 2024-04089 Filed 2-27-24; 8:45 am]

BILLING CODE 4312-52-P